DEPARTMENT OF THE INTERIOR

National Indian Gaming Commission

Notice of Availability of a Draft Environmental Impact Statement and a Draft Conformity Determination for the proposed Federated Indians of the Graton Rancheria Casino and Hotel Project, Sonoma, CA

AGENCY: National Indian Gaming Commission (NIGC), Interior.

ACTION: Notice of Availability (NOA).

SUMMARY: In accordance with Section 102(2)(C) of the National Environmental Policy Act (NEPA) 42 U.S.C. 4321 et seq., the NIGC, in cooperation with the Federated Indians of the Graton Rancheria (the “Graton Rancheria”), has prepared a Draft Environmental Impact Statement (DEIS) for a proposed casino and hotel project/action to be located in Sonoma, California. The purpose of the proposed project/action is to help address the socio-economic needs of the Graton Rancheria. The DEIS documents the existing condition of environmental resources in and around the areas considered for development and the potential impacts on those resources as a result of implementing each of the alternatives. The alternatives considered in detail are: a casino/hotel project on the “Wilfred Site” (the proposed project/action), a casino/hotel project on the “Stony Point Site,” a casino/hotel project on the “Lakeville Site,” a reduced intensity casino/hotel project on the “Stony Point” site, an alternate use project on the “Stony Point” site, and a no proposed project/action alternative.

In accordance with Section 176 of the Clean Air Act 42 U.S.C. 7506, and the U.S. Environmental Protection Agency's (EPA) general conformity regulations 40 CFR Part 93, Subpart B, a Draft Conformity Determination (DCD) has been prepared for the proposed project. The DCD is contained within Appendix W of the DEIS.

DATES: A public information workshop will be held at the Spreckels Performing Arts Center, Nellie W. Codding Theatre, 5409 Snyder Lane, Rohnert Park, CA 94928 on April 4, 2007 from 4 p.m. to 6 p.m. Following the public information workshop, the NIGC will hold a public hearing from 6:30 p.m. to 10 p.m. (or until all comments have been recorded) to provide the public an opportunity to comment on the DEIS and/or the DCD. A second public information workshop will be held at the Wells Fargo Center for the Arts (formerly the Luther Burbank Center), Ruth Finley Person Theatre, 50 Mark West Springs Road, Santa Rosa, CA 95403 on April 5, 2007 from 4 p.m. to 6 p.m. Following the public information workshop, the NIGC will hold a public hearing from 6:30 p.m. to 10 p.m. (or until all comments have been recorded) to provide the public an opportunity to comment on the DEIS and/or the DCD. The NIGC will also be accepting written comments. Written comments on the DEIS and/or the DCD must be postmarked by May 14, 2007, and sent to the addressed listed below.

ADDRESSES: Written comments on the DEIS and/or the DCD should be addressed to: Brad Mehaffy, NEPA Compliance Officer, National Indian Gaming Commission, 1441 L Street, NW., Suite 9100 Washington DC 20005 (or) fax to: Brad Mehaffy at 202-632-7066 (or) e-mailed to: graton_eis@nigc.gov.

Please include your name, return address, and the caption: “DEIS Comments, Graton Rancheria Casino and Hotel Project”, on the first page of your written comments. The public information workshops and public hearings will be hosted by the NIGC at the Spreckels Performing Arts Center, Nellie W. Codding Theatre, 5409 Snyder Lane, Rohnert Park, CA 94928 and the Wells Fargo Center for the Arts (formerly the Luther Burbank Center), Ruth Finley Person Theatre, 50 Mark West Springs Road, Santa Rosa, CA 95403.

FOR FURTHER INFORMATION CONTACT: For general information on the NEPA review procedures, the status of the NEPA review, or the general conformity requirements, contact Brad Mehaffy, NIGC NEPA Compliance Officer, 202-632-7003. Additional information (e.g. public notices, scoping reports, and contact information) can also be obtained at the following Web site: (http://www.gratoneis.com/). The DEIS is available for review at the Rohnert Park—Cotati Regional Library and Santa Rosa Central Library. General information, including directions and office hours, is available online at: http://www.sonoma.lib.ca.us/branches/ or by calling (707) 584-9121 for the Rohnert Park—Cotati Regional Library or (707) 545-0831 for the Santa Rosa Central Library.

SUPPLEMENTARY INFORMATION: The proposed federal action is the NIGC's approval of a gaming management contract between the Graton Rancheria and SC Sonoma Management LLC. The approval of the gaming management contract would result in the development of a resort hotel, casino, and supporting facilities. The facility will be managed by SC Sonoma Management LLC on behalf of the Graton Rancheria, pursuant to the terms of a gaming management contract.

The NIGC published a Notice of Intent (NOI) in the Federal Register on February 12, 2004, briefly describing the proposed project/action and announcing the NIGC's intent to prepare an EIS. The Council of Environmental Quality (“CEQ”) regulations for implementing NEPA require a process, referred to as “scoping,” for determining the range of environmental issues to be addressed during the environmental review of a proposed project/action (40 CFR 1501.7). The scoping process entails a determination of environmental issues to be studied and documented in the EIS by soliciting comments from agencies, organizations and individuals.

During the scoping process, the NIGC solicited comments from the general public (providing a 50-day comment period and including a public hearing) and offered Cooperating Agency status to both Federal and non-Federal agencies, including the Bureau of Indian Affairs (BIA), U.S. Environmental Protection Agency (USEPA), the U.S. Army Corps of Engineers (USACE), the California Department of Transportation (Caltrans), the U.S. Fish and Wildlife Service (USFWS), the California Department of Fish and Game (CDFG) and the County of Sonoma. An EIS Scoping Report was published in August 2004, which summarized public scoping comments and identified the BIA, USACE, Caltrans, and Sonoma County as cooperating agencies.

Since the release of the August 2004 Scoping Report the location for the proposed casino-hotel project has changed. A supplemental scoping process was initiated to address this change and allow an opportunity for the general public and agencies to comment on the scope of analysis for the new proposed location. A supplemental NOI was published in the Federal Register on September 29, 2005 and a second public comment period and public hearing were provided. A second, updated EIS Scoping Report was published in January 2006.

The DEIS has been prepared which has incorporated the issues and concerns summarized within the scoping reports, to the extent required by NEPA. Seven alternatives are evaluated in detail in the DEIS, including development on one of three alternatives sites and a no action alternative. The proposed project/action (Alternative A) includes a casino/hotel resort on a site west of Rohnert Park (the Wilfred site). The casino/hotel resort would include restaurants, a hotel, an entertainment venue, gaming space, banquet/meeting space, and a pool and spa. In addition to the casino/hotel facility, the proposed development would also include on-site parking and possibly an on-site tertiary wastewater treatment plant.

Alternative B consists of the development of a casino/hotel resort nearly identical to that proposed under Alternative A, but located on the northwest corner of an adjacent site, slightly further west of Rohnert Park (the Stony Point site). Alternative C also consists of the development of a casino/hotel resort nearly identical to that proposed under Alternative A. However, the Alternative C casino/hotel resort would be located on the northeast corner of the Stony Point site. Alternative D consists of a smaller-scale version of Alternative B. Alternative E consists of a business park development located on the northwest corner of the Stony Point site. Alternative F consists of the development of a casino/hotel resort nearly identical to that proposed under Alternative A but located on a different site in southern Sonoma County near the intersection of State Route 37 and the Lakeville Highway (the Lakeville site). Finally, Alternative G is the no project/action alternative, under which the NIGC would not approve the management contract.

The Clean Air Act requires Federal agencies to assure that their actions conform to applicable implementation plans for achieving and maintaining the National Ambient Air Quality Standards for criteria air pollutants. The NIGC has prepared a DCD for the proposed action/project described above. The DCD is including in Appendix W of the DEIS.

Public Comment And Solicitation: Written comments on the DEIS and/or DCD must be postmarked by May 14, 2007. Comments received (written, orally during the public hearing, or via U.S. mail/fax/e-mail) will be considered during the preparation of the Final Environmental Impact Statement (FEIS) and the Final Conformity Determination (FCD). At this time, there is no planned publication or distribution date for the FEIS or FCD.

Commenting individuals may request confidentiality. If you wish us to withhold your name and/or address from public review or from disclosure under the Freedom of Information Act, you must state this prominently at the beginning of your written comments. Such requests will be honored to the extent allowed by law. Anonymous comments will not, however, be considered. All submissions from organizations or businesses, and from individuals identifying themselves as representatives or officials of organizations or businesses, will be made available to public in their entirety.

Authority: This notice is published in accordance with Sections 1506.6 of the CEQ regulations 40 CFR, Parts 1500 through 1508 implementing the procedural requirements of the NEPA of 1969, as amended 42 U.S.C. 4371 et seq. This notice is also published in accordance with 40 CFR 93.155, which provides reporting requirements for conformity determinations.

Dated: March 2, 2007.
Philip N. Hogen,
Chairman.

[FR Doc. E7-4087 Filed 3-8-07; 8:45 am]

BILLING CODE 7565-01-P